DEPARTMENT OF ENERGY

Federal Energy Regulatory Commission

[Docket Nos. CP07-62-000 and CP07-63-000]

AES Sparrows Point LNG, LLC and Mid-Atlantic Express, LLC; Notice of Final General Conformity Determination for Pennsylvania for the Proposed Sparrows Point LNG Terminal and Pipeline Project

April 13, 2010.

On March 1, 2010, the staff of the Federal Energy Regulatory Commission (FERC or Commission) issued a revised draft Final General Conformity Determination (GCD) for Pennsylvania to assess the potential air quality impacts associated with the construction and operation of a liquefied natural gas (LNG) import terminal and natural gas pipeline proposed by AES Sparrows Point LNG, LLC and Mid-Atlantic Express, LLC, in the above-referenced dockets. In accordance with the General Conformity Regulations under the Code of Federal Regulations chapter 40 section 51.856 the draft Final GCD was issued for a 30-day public comment period. No comments were received on the draft Final GCD for Pennsylvania; therefore, the Commission staff is issuing this notice to announce the draft Final GCD is now the Final GCD for Pennsylvania.

The GCD was prepared to satisfy the requirements of the Clean Air Act. The FERC staff concludes that the Project will achieve conformity in Pennsylvania. On December 29, 2009, a separate Final General Conformity Determination was issued for Maryland concluding that the Project will achieve conformity in Maryland as well.

Copies of the revised draft Final GCD were previously mailed to the U.S. Environmental Protection Agency, Region III, the Maryland Department of Natural Resources, the Maryland Department of Environment, the Pennsylvania Department of Environmental Protection, and the Virginia Department of Environmental Quality.

The GCD for Pennsylvania addresses the potential air quality impacts from the construction and operation of the following LNG terminal and natural gas pipeline facilities:

• A ship unloading facility, with two berths, capable of receiving LNG ships with capacities up to 217,000 m³;

• Three 160,000 m³ (net capacity) full-containment LNG storage tanks;

• A closed-loop shell and tube heat exchanger vaporization system;

• Various ancillary facilities including administrative offices, warehouse, main control room, security building, and a platform control room;

• Meter and regulation (M&R) station within the LNG Terminal site; and

• Approximately 88 miles of 30-inch-diameter natural gas pipeline (48 miles in Maryland and 40 miles in Pennsylvania), a pig launcher and receiver facility at the beginning and ending of the pipeline, 10 mainline valves, and three M&R stations, one at each of three interconnection sites at the end of the pipeline.

The Final GCD is the revised draft Final GCD which was placed in the public files of the FERC on March 1, 2010 and is available for public viewing on the FERC's Web site at http://www.ferc.gov using the eLibrary link. A limited number of copies of the revised draft Final GCD are available for distribution and public inspection at: Federal Energy Regulatory Commission, Public Reference Room, 888 First Street, NE., Room 2A, Washington, DC 20426, (202) 502-8371.

Additional information about the project is available from the Commission's Office of External Affairs at (866) 208-FERC. The administrative public record for this proceeding to date is on the FERC Web site http://www.ferc.gov. Go to Documents & Filings and choose the eLibrary link. Under eLibrary, click on “General Search,” and enter the docket number excluding the last three digits in the Docket Number field (e.g., CP07-62). Be sure you have selected an appropriate date range. For assistance, please contact FERC Online Support at: FERCOnlineSupport@ferc.gov or toll free at (866) 208-3676, or for TTY call (202) 502-8659. The eLibrary link on the FERC Web site also provides access to the texts of formal documents issued by the Commission, such as orders, notices, and rulemakings.

Kimberly D. Bose,
Secretary.

[FR Doc. 2010-8998 Filed 4-19-10; 8:45 am]

BILLING CODE 6717-01-P